DEPARTMENT OF ENERGY

Federal Energy Regulatory Commission

[Docket No. RP99-507-000]

Amoco Energy Trading Corporation, Amoco Production Company, and Burlington Resources Oil & Gas Company v. El Paso Natural Gas Company; Notice of Informal Settlement Conference

May 8, 2000.

Pursuant to the Commission's order in Amoco Energy Trading Corporation et al v. El Paso Natural Gas Company, 89 FERC ¶ 61,165 (1999), Commission Staff held a Technical Conference on March 9, 2000, to discuss El Paso's February 9, 2000 proposal to change its current allocation methods and all issues related to the allocation of receipt and delivery points on El Paso's system.

At a subsequent technical conference, the participants reached consensus to attend an informal settlement conference. The participants also agreed that the Director of the Commission's Dispute Resolution Service (Director) attend the conference to facilitate the settlement negotiations. The parties also agreed that a party could provide to the Director, in advance of the informal settlement conference, a statement of the issues or business interests that they believed needed to be considered. Accordingly, the informal settlement conference will begin with a discussion regarding the settlement process, followed by a discussion of the statements provided to the Director.

The informal settlement conference will be held on May 16, 2000, at the Federal Energy Regulatory Commission located at 888 First Street, NE., Washington, DC. The conference will begin at 10 a.m. in Room 3M-2A/2B.

All interested parties in the above dockets are requested to attend the informal settlement conference. If a party has any questions with respect to the conference, please call Richard Miles, the Director of the Dispute Resolution Service. His telephone number is 1-877 FERC ADR (337-2237) or 202-208-0702 and his e-mail address is richard.miles@ferc.fed.us.

David P. Boergers,
Secretary.

[FR Doc. 00-11936 Filed 5-11-00; 8:45 am]

BILLING CODE 6717-01-M